DEPARTMENT OF ENERGY

Notice of Orders Issued Under Section 3 of the Natural Gas Act During May 2018

AGENCY: Office of Fossil Energy, Department of Energy.

ACTION: Notice of orders.

| FE Docket Nos.
POWER CITY PARTNERS, L.P | 18-46-NG
ENBRIDGE GAS NEW BRUNSWICK LIMITED PARTNERSHIP | 18-48-NG
CONSTELLATION LNG, LLC | 18-49-LNG
BIOURJA POWER, LLC | 18-50-NG
IRVING OIL TERMINALS INC | 18-52-CNG
BIOURJA TRADING, LLC | 18-51-NG
SEMPRA GAS & POWER MARKETING, LLC | 18-53-NG
MERCURIA ENERGY AMERICA INC | 18-54-NG
SEMPRA LNG MARKETING, LLC | 18-55-LNG
BP CANADA ENERGY MARKETING CORP | 18-56-NG
STABILIS ENERGY SERVICES LLC | 18-58-LNG
TOURMALINE OIL MARKETING CORP | 18-57-NG
NEXEN ENERGY MARKETIN U.S.A. INC | 18-60-NG
MORGAN STANLEY CAPITAL GROUP INC | 18-61-NG
RICE ENERGY MARKETING LLC | 17-102-NG
JUPITER RESOURCES INC | 18-59-NG
FERUS NATURAL GAS FUELS CNG LLC | 18-62-CNG; 16-169-NG

SUMMARY: The Office of Fossil Energy (FE) of the Department of Energy gives notice that during May 2018, it issued orders granting or vacating authority to import and export natural gas, to import and export liquefied natural gas (LNG), and to import and export compressed natural gas (CNG). These orders are summarized in the attached appendix and may be found on the FE web site at https://www.energy.gov/fe/listing-doefe-authorizationsorders-issued-2018-0.

They are also available for inspection and copying in the U.S. Department of Energy (FE-34), Division of Natural Gas Regulation, Office of Regulation and International Engagement, Office of Fossil Energy, Docket Room 3E-033, Forrestal Building, 1000 Independence Avenue SW, Washington, DC 20585, (202) 586-9478. The Docket Room is open between the hours of 8:00 a.m. and 4:30 p.m., Monday through Friday, except Federal holidays.

Issued in Washington, DC, on June 19, 2018.
Amy Sweeney,
Director, Division of Natural Gas Regulation.

Appendix

DOE/FE Orders Granting Import/Export Authorizations
4181 | 05/14/18 | 18-46-NG | Power City Partners, L.P | Order 4181 granting blanket authorization to import natural gas from Canada.
4182 | 05/14/18 | 18-48-NG | Enbridge Gas New Brunswick Limited Partnership | Order 4182 granting blanket authority to import/export natural gas from/to Canada.
4183 | 05/15/18 | 18-49-LNG | Constellation LNG, LLC | Order 4183 granting blanket authority to import LNG from various international sources by vessel and to export LNG to Canada by vessel.
4184 | 05/16/18 | 18-50-NG | Biourja Power, LLC | Order 4184 granting blanket authority to import/export natural gas from/to Canada/Mexico.
4185 | 05/21/18 | 18-52-CNG | Irving Oil Terminals Inc | Order 4185 granting blanket authority to import/export CNG from/to Canada by truck.
4186 | 05/21/18 | 18-51-NG | Biourja Trading, LLC | Order 4186 granting blanket authority to import/export natural gas from/to Canada/Mexico.
4187 | 05/21/18 | 18-53-NG | Sempra Gas & Power Marketing, LLC | Order 4187 granting blanket authority to import/export natural gas from/to Mexico.
4188 | 05/21/18 | 18-54-NG | Mercuria Energy America Inc | Order 4188 granting blanket authority to import/export natural gas from/to Canada/Mexico.
4189 | 05/21/18 | 18-55-LNG | Sempra LNG Marketing, LLC | Order 4189 blanket authority to import LNG from various international sources by vessel.
4190 | 05/21/18 | 18-56-NG | BP Canada Energy Marketing Corp | Order 4190 granting blanket authority to import/export natural gas from/to Canada.
4191 | 05/22/18 | 18-58-LNG | Stabilis Energy Services LLC | Order 4191 granting blanket authority to import/export LNG from/to Canada/Mexico by truck.
4192 | 05/22/18 | 18-57-NG | Tourmaline Oil Marketing Corp | Order 4192 granting blanket authority to import natural gas from Canada.
4193 | 05/23/18 | 18-60-NG | Nexen Energy Marketing U.S.A. Inc | Order 4193 granting blanket authority to import/export natural gas from/to Canada/Mexico.
4194 | 05/23/18 | 18-61-NG | Morgan Stanley Capital Group Inc | Order 4194 granting blanket authority to import/export natural gas from/to Canada/Mexico.
4080-A | 05/29/18 | 17-102-NG | Rice Energy Marketing LLC | Order 4080-A vacating blanket authority to import/export natural gas from/to Canada.
4195 | 05/29/18 | 18-59-NG | Jupiter Resources Inc | Order 4195 granting blanket authority to import natural gas from Canada.
4196 | 05/29/18 | 18-62-CNG; 16-169-NG | Ferus Natural Gas Fuels (CNG) LLC | Order 4196 granting blanket authority to import/export CNG from/to Canada by truck and vacating prior authorization.

[FR Doc. 2018-13476 Filed 6-22-18; 8:45 am]

BILLING CODE 6450-01-P